DEPARTMENT OF DEFENSE

Office of the Secretary

[Docket ID: DoD-2022-OS-0023]

Proposed Collection; Comment Request; Correction

AGENCY: The Office of the Under Secretary of Defense for Personnel and Readiness (USD(P&R)), Department of Defense (DoD).

ACTION: 60-Day information collection notice; correction.

SUMMARY: The Department of Defense is correcting a notice that appeared in the Federal Register on February 23, 2022. Subsequent to publication of the notice, the DoD discovered that the Docket ID was not listed correctly. DoD is issuing this correction to provide the correct Docket ID.

DATES: This correction is effective on March 2, 2022.

FOR FURTHER INFORMATION CONTACT: Patricia Toppings, 571-372-0485.

SUPPLEMENTARY INFORMATION: In FR Doc. 2022-03782 appearing at 87 FR 10179-10180 in the Federal Register of Wednesday, February 23, 2022, the Docket ID is changed to read [Docket ID: DoD-2022-OS-0023] as set forth above.

Dated: February 23, 2022.
Aaron T. Siegel,
Alternate OSD Federal Register Liaison Officer, Department of Defense.

[FR Doc. 2022-04316 Filed 3-1-22; 8:45 am]

BILLING CODE 5001-06-P